DEPARTMENT OF ENERGY

Federal Energy Regulatory Commission

[Docket No. EL11-19-000]

Southern California Edison Company, Pacific Gas and Electric Company, San Diego Gas & Electric Company; Notice of Petition

Take notice that on January 31, 2011, pursuant to section 210(h)(2) of the Public Utility Regulatory Policies Act of 1978 (PURPA),¹ Southern California Edison Company (SCE), Pacific Gas and Electric Company (PG&E), and San Diego Gas & Electric Company (SDG&E) filed a petition requesting that the Federal Energy Regulatory Commission (Commission) enforce the requirements of PURPA against the Public Utilities Commission of the State of California (CPUC), and find that the CPUC's AB 1613 Decisions ² violate PURPA and the Commission's Regulations implementing PURPA.

¹ 16 U.S.C. 824a-3(h)(2) (2006).

² The AB 1613 Decisions consist of the following CPUC decisions issued in rulemaking docket R.08-06-024: (1) Decision Adopting Policies and Procedures for Purchase of Excess Electricity Under Assembly Bill 1613, D.09-12-042 (Dec. 21, 2009), (2) Order Dismissing Motion for Stay of Decision (D.) 09-12-042, Modifying D.09-12-042, and Denying Rehearing of D.09-12-042, as Modified, D.10-04-055 (Apr. 26, 2010), and (3) Decision Granting, in Part, and Denying in Part, Joint Petition of Pacific Gas and Electric Company, Southern California Edison Company, and San Diego Gas & Electric Company for Modification of Decision 09-12-042, D.10-12-055 (Dec.17, 2010), rehearing pending. Page citations to CPUC Decisions are to the .pdf versions posted on the CPUC Web site.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on February 22, 2011.

Dated: February 10, 2011.
Kimberly D. Bose,
Secretary.

[FR Doc. 2011-3621 Filed 2-16-11; 8:45 am]

BILLING CODE 6717-01-P